DEPARTMENT OF THE INTERIOR

Office of Surface Mining Reclamation and Enforcement

[S1D1S SS08011000 SX064A000 2451S180110; S2D2S SS08011000 SX064A000 24XS501520; OMB Control Number 1029-0059]

Agency Information Collection Activities; Grants to States and Tribes

AGENCY: Office of Surface Mining Reclamation and Enforcement, Interior.

ACTION: Notice of information collection; request for comment.

SUMMARY: In accordance with the Paperwork Reduction Act of 1995, we, the Office of Surface Mining Reclamation and Enforcement (OSMRE), are proposing to renew an information collection.

DATES: Interested persons are invited to submit comments on or before November 27, 2023.

ADDRESSES: Written comments and recommendations for the proposed information collection should be sent within 30 days of publication of this notice to www.reginfo.gov/public/do/PRAMain. Find this particular information collection by selecting “Currently under 30-day Review—Open for Public Comments” or by using the search function. Please provide a copy of your comments to Mark Gehlhar, Office of Surface Mining Reclamation and Enforcement, 1849 C Street NW, Room 4556-MIB, Washington, DC 20240, or by email to mgehlhar@osmre.gov. Please reference OMB Control Number 1029-0059 in the subject line of your comments.

FOR FURTHER INFORMATION CONTACT: To request additional information about this ICR, contact Mark Gehlhar by email at mgehlhar@osmre.gov, or by telephone at (202) 208-2716. Individuals in the United States who are deaf, deafblind, hard of hearing, or have a speech disability may dial 711 (TTY, TDD, or TeleBraille) to access telecommunications relay services. Individuals outside the United States should use the relay services offered within their country to make international calls to the point-of-contact in the United States. You may also view the ICR at http://www.reginfo.gov/public/do/PRAMain.

SUPPLEMENTARY INFORMATION: In accordance with the Paperwork Reduction Act of 1995 (PRA; 44 U.S.C. 3501 et seq.) and 5 CFR 1320.8(d)(1), we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on October 18, 2022 (87 FR 63088). Comments were received from 14 entities primarily from respondents applying for grants. Among the most common concerns were requiring list of projects to be funded at the time of application and a description of how projects were prioritized and selected. This was deemed unnecessary by commenters since such lists would be tentative at the time and likely to change during subsequent stages of the approval process. Commenters added that changes in the list would require formal amendments, increasing administrative burden unnecessarily. OSMRE revised this requirement requesting lists of eligible problem area descriptions currently inventoried to satisfy the requirement at the initial application stage.

Commenters were opposed to applicants providing detailed information on contractor hirings at the time of application because AML project procurement process occurs much later in the grant's period of performance. In addition, contracting for AML construction services is governed by each state's procurement laws dictating how contractor bids are to be prioritized and documentation requiring worker's background. This was considered excessively burdensome in the application process and was viewed by applicants better suited for post-award project reporting.

Several commenters expressed concern that requiring information for estimated project benefits submitted with the OSM-51 form duplicates and goes above what is already provided from OSMRE's abandoned mine inventory system. In addition, it appeared as duplicative information because some of the same information is detailed in the Environmental Assessment prepared for each reclamation project which is reviewed prior to issuing the authorization to proceed. Commenters stated OSMRE can collect this benefit-type of information from AML programs in other ways that are not part of the grant application process.

In response to comments OSMRE opted for a simplified version of the OSM-51 form to provide flexibility in how information is submitted and to avoid duplication of other grant information received. In addition, OSMRE allowed the OSM-51 form to be optional to provide applicants flexibility in the choice of format for submitting their program narrative and performance reports.

Commenters also stated that the overall burden hours were understated. OSMRE performed additional outreach with respondents resulting in higher estimated burden hours from increases in annual funding for projects requiring greater time for formalizing submissions.

As part of our continuing effort to reduce paperwork and respondent burdens, we are again soliciting comments from the public and other Federal agencies on the proposed ICR that is described below. We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: State and Tribal reclamation and regulatory authorities are requested to provide specific budget and program information as part of the grant application and reporting processes authorized by the Surface Mining Control and Reclamation Act. The Office of Surface Mining Reclamation and Enforcement (OSMRE) administers three distinct AML programs with varying criteria for projects and eligibility criteria. These are comprised of (1) the Abandoned Mine Land Economic Revitalization (AMLER) Program using appropriated funds from Congress, (2) the traditional fee-based AML grant distributions authorized by SMCRA, and (3) the Bipartisan Infrastructure Law (BIL) (Pub. L. 117-58) which appropriated funds for the Abandoned Mine Reclamation Fund administered by OSMRE. One means that States and Tribes satisfy these requirements is submission of the OSM-51 form to report program narrative information as part of their grant applications and to meet their annual post-award reporting requirement. It is necessary that each program is recognized, and unique criteria as specified in program guidance documents is followed when using the OSM-51 form.

Title of Collection: Grants to States and Tribes.

OMB Control Number: 1029-0059.

Form Number: None.

Type of Review: Revision of a currently approved collection.

Respondents/Affected Public: State and Tribal governments.

Total Estimated Number of Annual Respondents: 26.

Total Estimated Number of Annual Responses: 279.

Estimated Completion Time per Response: Varies from 1 hour to 29 hours.

Total Estimated Number of Annual Burden Hours: 2,423.

Respondent's Obligation: Required to obtain or retain a benefit.

Frequency of Collection: Once.

Total Estimated Annual Nonhour Burden Cost: None.

An agency may not conduct or sponsor and a person is not required to respond to a collection of information unless it displays a currently valid OMB control number.

The authority for this action is the Paperwork Reduction Act of 1995 (44 U.S.C. 3501 et seq.).

Mark J. Gehlhar,
Information Collection Clearance Officer, Office of Surface Mining Reclamation and Enforcement.

[FR Doc. 2023-23688 Filed 10-25-23; 8:45 am]

BILLING CODE 4310-05-P